DEPARTMENT OF DEFENSE

Office of the Secretary

[Transmittal No. 17-0C]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(5)(C) arms sales notification is published to fulfill the requirements of section 155 of Public Law 104-164 dated July 21, 1996. The following is a copy of a letter to the Speaker of the House of Representatives, Transmittal 17-0C with attached Policy Justification.

Dated: January 11, 2018.
Aaron Siegel,
Alternate OSD Federal Register Liaison Officer, Department of Defense.

BILLING CODE 5001-06-P

BILLING CODE 5001-06-C

Transmittal No. 17-0C

Report of Enhancement or Upgrade of Sensitivity of Technology or Capability (Sec. 36(b)(5)(c), AECA)

(i) Purchaser: NATO Support and Procurement Agency (NSPA) as lead-nation for Belgium, Czech Republic, Denmark, Greece, Netherlands, Norway, Portugal, and Spain

(ii) Sec. 36(b)(1), AECA Transmittal No.: 16-30

Date: 18 August 2016

Military Department: Air Force

(iii) Description: On August 18, 2016, Congress was notified by Congressional certification transmittal number 16-30, of the possible sale under Section 36(b)(1) of the Arms Export Control Act of Five hundred (500) Joint Direct Attack Munition (JDAM) Guidance Kits, KMU-556 F/B Forty (40) JDAM Guidance Kits, KMU-557 F/B, one thousand five hundred (1,500) JDAM Guidance Kits, KMU-572 F/B, one thousand (1,000) MAU 210 E/B Computer Control Groups for 1,000-lb Enhanced Paveway IIs, three hundred (300) MAU 210 E/B Computer Control Groups for GBU-49s, one thousand twenty-five (1,025) MAU 169 L/B Computer Control Groups for GBU-12s, one thousand three hundred fifty (1,350) Joint Programmable Fuzes, FMU-152 A/B, sixty (60) Bomb Fin Assembly and Airfoil Group 650-MXU K/B for GBU-12s, one thousand twenty-five (1,025) Bomb Fin Assembly and Airfoil Group, MXU-650 K/B AFG for GBU-12s. Non-MDE: Detector Sensing Unit (DSU)-38A/B Laser sensors, DSU-330/B proximity sensors, Wireless Paveway Avionics Kit (WIPAK) interfaces for Enhanced Paveway II bombs, FMU-139C/B electronic bomb fuzes, repair and return services, transportation, engineering services, and other support services. The estimated total cost was $231 million. Major Defense Equipment (MDE) constituted $151 million of this total.

The original notification listed “kit” components to build one thousand (1,000) GBU-48 (1,000-lb) Enhanced Paveway IIs (EPII) (MDE items), three hundred (300) GBU-49 (500-lb) EPIIs (MDE items), and one thousand and twenty-five (1,025) GBU-12 (500-lb) Paveway II (PWII) (MDE items). Each “kit” includes a Computer Control Group (CCG) and Air Foil Group (AFG) to convert a general purpose bomb into EPII or PWII.

This transmittal reports the replacement of one thousand (1,000) MAU-210 E/B (MDE items) with one thousand (1,000) MAU-210 F/B (MDE items) for the GBU-48 1,000-lb EPII and three hundred (300) MAU-210 E/B (MDE items) with three hundred (300) MAU-210 F/B (MDE items) for the GBU-49 500-lb EPII, to reflect the change from Lot 3A to Lot 5 for the moving target variant CCGs being procured to build EPIIs.

This transmittal also supplements the description of the AFGs kit components to include one thousand (1,000) MXU-667 H/B AFGs for the GBU-48 and three hundred (300) MXU-650 K/B AFGs for the GBU-49.

This transmittal also increases the number of FMU-152 A/B fuzes (MDE items) from one thousand three hundred and fifty (1,350) to four thousand three hundred and sixty five (4,365) to match the total number of JDAM and Paveway Kits. The numbers reflect their substitution for FMU-139 C/B fuzes (non-MDE) previously notified.

The upgrade of the MAUs from Lot 3A to Lot 5, enumerating the MDE status of the tail groups, and increasing the number of fuzes will result in a net increase in the MDE cost of $49 million. The total case value will increase to $280 million.

(iv) Significance: This notification reports the replacement of the EPII MAU-210E/B with the EPII MAU-210F/B, the further clarification of AFGs for EPIIs, and upgrades the fuze type from FMU-139 C/B to FMU-152 A/B for this sale. Upgrading these MDE items results in an increase in capability over what was originally notified. The MAU-210F/B adds 3-D proportional navigation, improved accuracy for high speed (>70 mph) and maneuvering targets, wider laser field of view, and an improved Inertial Measurement Unit (IMU). This transmittal provides information about the airfoil groups required to match the total number of EPIIs notified on Transmittal 15-33. The sensitivity of technology statement contained in the original transmittal applies to the FMU-152 A/B reported here.

(v) Justification: The proposed sale improves NATO members' capability to meet current and future ground threats with precision. They will use the enhanced capacity as a deterrent to regional threats, and to increase interoperability within contingency operations. Many of the purchasing nations already have precision-guided munitions in their inventories and will have no difficulty absorbing these additional munitions. The proposed sale of this equipment and support will not alter the basic military balance in the region.

Implementation of this proposed sale will not require the assignment of any additional U.S. Government or contractor representatives to NATO. There will be no adverse impact on U.S. defense readiness as a result of this proposed sale.

(vi) Date Report Delivered to Congress: January 5, 2018

[FR Doc. 2018-00681 Filed 1-16-18; 8:45 am]

BILLING CODE 5001-06-P